CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled Assessment of the National Conference on Volunteering and Service (formerly known as National Conference Surveys), for review and approval in accordance with the Paperwork Reduction Act of 1995, Public Law 104-13, (44 U.S.C. Chapter 35). Copies of this ICR, with applicable supporting documentation, may be obtained by calling the Corporation for National and Community Service, Nathan Dietz, at (202) 606-6633 or e-mail to ndietz@cns.gov. Individuals who use a telecommunications device for the deaf (TTY-TDD) may call (202) 606-3472 between 8:30 a.m. and 5 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by e-mail to smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on December 16, 2010. This comment period ended February 16, 2011. No public comments were received from this Notice.

Description: The Corporation is seeking approval of the Assessment of the National Conference on Volunteering and Service (formerly known as the Conference Surveys) which is completed by the conference's attendees to assess the satisfaction of participants with the conference`s activities, and gather feedback about the informational and other needs of conference attendees. Data are collected using the following surveying methods as described below.

• NCVS Registration Survey Form—data collected via the Conference registration system that provides demographic data on registered attendees, expectations and previous experiences.

• Workshop Survey Form—onsite and online surveys administered in all Conference sessions to learn about the workshop/session experience from the perspective of attendees.

• Post-Conference Online Survey—an online survey administered to registered attendees (excluding Conference exhibitors) to gather information about participation, quality and satisfaction.

• Follow-up Survey—an online survey administered to registered attendees (excluding Conference exhibitors) to gather information about participants' utilization of knowledge and resources gained during the Conference.

Type of Review: Renewal.

Agency: Corporation for National and Community Service.

Title: Assessment of the National Conference on Volunteering and Service (formerly known as National Conference Surveys).

OMB Number: #6045-0128.

Agency Number: None.

Affected Public: Individuals and households, community and faith-based organizations, non-profits, state and local government and educational institutions and businesses.

Total Respondents: 5,000.

Frequency: Annual.

Average Time per Response: Fifteen minutes per survey.

Estimated Total Burden Hours: 6,667 hours.

Total Burden Cost (capital/startup): None.

Total Burden Cost (operating/maintenance): None.

Dated: April 8, 2011.
Heather Peeler,
Chief Strategy Officer, Strategy Office.

[FR Doc. 2011-9023 Filed 4-13-11; 8:45 am]

BILLING CODE 6050-$$-P